DEPARTMENT OF ENERGY

Federal Energy Regulatory Commission

[Project No. 15041-002]

One Drop Hydro, LLC; Notice of Application Tendered for Filing With the Commission and Soliciting Additional Study Requests and Establishing Procedural Schedule for Licensing

Take notice that the following hydroelectric application has been filed with the Commission and is available for public inspection.

a. Type of Application: Original Minor License.

b. Project No.: 15041-002.

c. Date filed: June 10, 2025.

d. Applicant: One Drop Hydro, LLC (One Drop Hydro).

e. Name of Project: Elizabeth Webbing Falls Hydroelectric Project (project).

f. Location: On the Blackstone River in Providence County, Rhode Island.

g. Filed Pursuant to: Federal Power Act 16 U.S.C. 791(a)-825(r).

h. Applicant Contact: Justin Bristol, One Drop Hydro, LLC, 7 Nichols Ln, Hopkinton, RI 02832; Phone at (401) 793-6041; or email at jbristol@onedrophydro.com.

i. FERC Contact: Brandi Welch-Acosta at (202) 502-8964 or at brandi.welch-acosta@ferc.gov; and Robert Haltner at (202) 502-8612 or at robert.haltner@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: On or before 5:00 p.m. Eastern Time on August 11, 2025.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Elizabeth Webbing Falls Hydroelectric Project (P-15041-002).

m. The application is not ready for environmental analysis at this time.

n. The proposed Elizabeth Webbing Falls Hydroelectric Project would consist of: (1) an existing 220-foot-long, V-shaped stone masonry gravity dam that includes a 210-foot-long spillway with a crest elevation of 34.9 feet National Geodetic Vertical Datum of 1929 (NGVD 29); (2) an existing impoundment with a surface area of approximately 14 acres at an elevation of 34.9 feet NGVD 29; (3) new steel trash racks with ¾-inch clear bar spacing; (4) an existing hydraulically operated headgate; (5) an existing concrete powerhouse approximately 25 feet wide by 70 feet long by 25 feet tall; (6) an existing horizontal semi-Kaplan turbine and draft tube with a speed increaser and a 0.7 megawatt generator; (7) six existing 4.16 kilovolt generator leads connecting the generating unit to the transformer on the roof of the powerhouse, which steps-up the voltage to 13.8 kilovolt; (8) a new 400-foot long transmission line to the utility point of interconnect located in Rhode Island Energy's distribution system; and (10) existing appurtenant facilities.

In addition to the existing facilities and new transmission line listed above, One Drop Hydro proposes to: (1) operate the project in a run-of-river mode with an estimated annual energy generation of approximately 3,400 megawatt-hours; (2) release a continuous minimum flow of 250 cubic feet per second or inflow, whichever is less, to the bypassed reach; (3) install a volitional eel passage ramp at the project spillway; (4) install downstream fish passage facilities when necessary; (5) provide upstream anadromous fish passage, when necessary; and (6) implement a northern long-eared bat protection plan.

o. Copies of the application may be viewed on the Commission's website at http://www.ferc.gov using the “eLibrary” link. Enter the docket number, excluding the last three digits, in the docket number field to access the document (P-15041). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

p. Procedural schedule: The application will be processed according to the following preliminary schedule. Revisions to the schedule will be made as appropriate.

Milestone | Target date
Issue Deficiency Letter (if necessary) | August 2025.
Request Additional Information | August 2025.
Issue Scoping Document 1 for comments | October 2025.
Issue Acceptance Letter | November 2025.
Request Additional Information (if necessary) | November 2025.
Issue Scoping Document 2 | January 2026.
Issue Notice of Ready for Environmental Analysis | January 2026.

Dated: June 23, 2025.
Debbie-Anne A. Reese,
Secretary.

[FR Doc. 2025-11829 Filed 6-25-25; 8:45 am]

BILLING CODE 6717-01-P